DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 24, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Approval of Laboratories to Conduct Official Testing.

OMB Control Number: 0579-0472.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. The AHPA is contained in Title X, Subtitle E, Sections 10401-18 of Public Law 107-171, May 13, 2002, the Farm Security and Rural Investment Act of 2002. [7 U.S.C. 8301 et seq.]

Animal and Plant Health Inspection Service (APHIS) regulations require APHIS approval or certification for laboratories conducting tests for disease management as well as live animal interstate movement, import and export.

Need and Use of the Information: APHIS approval or certification requires various information collection activities. The regulations facilitate the approval of additional laboratories in emergency situations and serve to simplify regulatory oversight and compliance by providing defined application and inspection procedures using a checklist and approval agreement. The regulations also set requirements for testing procedures and methods, biosecurity measures, the use of quality systems and controls with documented guidelines and verification forms, details regarding training and reporting, recordkeeping, and program standards. In addition, laboratories must conduct testing using APHIS-approved assay methods and reporting, request test exemptions if the minimum number of tests are not performed during two consecutive reporting periods and submit sample copies of diagnostic reports. The approved laboratories must maintain approval status and provide proof of accreditation status and set forth general terms for probation status, suspension or rescission of approval, and appeals. Laboratories may also request removal of their approved status.

If APHIS did not collection this information, it could not ensure a national ability to coordinate actions to prevent foreign animal disease outbreaks in the United States.

Description of Respondents: Business or other for-profit; State, Local or Tribal Government.

Number of Respondents: 402.

Frequency of Responses: Reporting: On occasion.

Total Burden Hours: 37,697.

Ruth Brown,
Departmental Information Collection Clearance Officer.

[FR Doc. 2023-01452 Filed 1-24-23; 8:45 am]

BILLING CODE 3410-34-P